DEPARTMENT OF COMMERCE

National Oceanic and Atmospheric Administration

Coastal Zone Management Program: Illinois

AGENCY: Office of Ocean and Coastal Resource Management (OCRM), National Oceanic and Atmospheric Administration (NOAA), U.S. Department of Commerce (DOC).

ACTION: Notice of Availability of Record of Decision (ROD) for Federal Approval of the Illinois Coastal Management Program (ICMP).

SUMMARY: NOAA's OCRM announces the availability of the Record of Decision (ROD) documenting Federal Approval of the Illinois Coastal Management Program (ICMP). The Federal Register Notice (FRN) on the Final Environmental Impact Statement (EIS) on the ICMP was published December 23, 2011 for a 30-day comment period (76 FR 80342). The comment period closed on January 23, 2012.

The ROD documents the selection of Alternative 1 (the NOAA preferred alternative) in the final EIS. NOAA makes a final determination that the ICMP constitutes an approvable program and that requirements of the Coastal Zone Management Act (CZMA) and its implementing regulations have been met. The ROD was signed by the Assistant Administrator, National Ocean Service, on January 31, 2012. Federal consistency applies to the ICMP enforceable policies as of January 31, 2012, and the State of Illinois is eligible to receive program administration grant funds.

ADDRESSES: A copy of the ROD may be obtained from Diana Olinger, Coastal Program Specialist and Interim Environmental Protection Specialist, NOAA, OCRM/CPD, N/ORM3, Station 11204, 1305 East-West Highway, Silver Spring, MD 20910, or Diana.Olinger@noaa.gov, (301) 563-1149 (telephone), (301) 713-4367 (facsimile). The ROD is also available on the OCRM Web site at: http://coastalmanagement.noaa.gov/mystate/il.html.

FOR FURTHER INFORMATION CONTACT: Diana Olinger, Coastal Program Specialist, National Oceanic and Atmospheric Administration, OCRM/CPD, N/ORM3, Station 11204, 1305 East-West Highway, Silver Spring, MD 20910, telephone (301) 563-1149, facsimile (301) 713-4367, email Diana.Olinger@noaa.gov.

SUPPLEMENTARY INFORMATION: The following is a summary of the ROD: The State of Illinois, Department of Natural Resources, submitted a coastal management program to NOAA for approval under the Coastal Zone Management Act (CZMA), 16 U.S.C. 1451, et seq. in May 2011. The ICMP was the result of collaborative efforts on the part of Federal, State, and local agencies, regional organizations, and public and private entities. The ROD selects Final EIS Alternative 1 (Approve the Illinois Coastal Management Program). OCRM arrived at this decision taking into account environmental, economic and agency statutory mission considerations, as discussed in greater detail in the ROD. OCRM did not select Alternative 2 (Deny Approval) or Alternative 3 (Delay Approval) because those alternatives could potentially lead to negative physical and socio-economic impacts to coastal resources associated with (1) the State not being able to become eligible for federal technical and financial assistance to implement the ICMP; (2) Illinois would have no authority to review federal activities for consistency with the state's enforceable coastal policies; and (3) Illinois would be under no obligation to consider the national interest in the siting, planning, and management of regionally or nationally significant coastal facilities. These benefits are only available through participation in the national coastal management program. Alternative 3 was also not selected due to the fact further delay of federal approval would make it less likely that Illinois would enter the national coastal zone management program in the future due to resource limitations and other factors

Dated: February 6, 2012.
Donna Wieting,
Director, Office of Ocean and Coastal Resource Management, National Ocean Service, National Oceanic and Atmospheric Administration.

[FR Doc. 2012-3362 Filed 2-13-12; 8:45 am]

BILLING CODE 3510-22-P